DEPARTMENT OF HOMELAND SECURITY

Federal Emergency Management Agency

44 CFR Parts 77, 78, 79, 80, 201, and 206

[Docket ID FEMA-2019-0011]

RIN 1660-AA96

FEMA's Hazard Mitigation Assistance and Mitigation Planning Regulations; Correction

AGENCY: Federal Emergency Management Agency, Department of Homeland Security (DHS).

ACTION: Final rule; correction.

SUMMARY: On September 10, 2021, FEMA published in the Federal Register a final rule revising the Federal Emergency Management Agency's Hazard Mitigation Assistance and mitigation planning regulations to reflect current statutory authority and agency practice. This final rule corrects the effective date of this rule to read October 1, 2021.

DATES: This correction is effective September 17, 2021.

ADDRESSES: The docket for this rulemaking is available for inspection using the Federal eRulemaking Portal at http://www.regulations.gov and can be viewed by following that website's instructions.

FOR FURTHER INFORMATION CONTACT: Katherine Fox, Assistant Administrator for Mitigation, Federal Emergency Management Agency, 202-646-1046, Katherine.Fox5@fema.dhs.gov.

SUPPLEMENTARY INFORMATION: In FR Doc. 2021-19186, beginning on page 50653 in the Federal Register of Friday, September 10, 2021, the following correction is made:

1. On page 50653, in the first column, “DATES: This rule is effective October 12, 2021.” is corrected to read “DATES: This rule is effective October 1, 2021.”

Deanne B. Criswell,
Administrator, Federal Emergency Management Agency.

[FR Doc. 2021-20090 Filed 9-16-21; 8:45 am]

BILLING CODE 9110-11-P